GENERAL SERVICES ADMINISTRATION

[Notice—PBS-2024-07; Docket No. 2024-0002; Sequence No. 32]

Notice of Availability for the Final Environmental Impact Statement for the Buildings 202, 214 and 220 South State Street, Chicago, Illinois; Correction

AGENCY: Public Building Service (PBS), General Services Administration (GSA).

ACTION: Notice; correction.

SUMMARY: GSA published a document in the Federal Register of July 31, 2024, announcing the availability of the Final Environmental Impact Statement (EIS) for the future of 202, 214, and 220 South State Street, Chicago, Illinois. The date provided in the publication period was incorrect. This notice is being issued to list the correct date.

FOR FURTHER INFORMATION CONTACT: Mr. Joseph Mulligan, GSA, 230 S. Dearborn St., Suite 3600, Chicago, IL 60604; email: statestreet@gsa.gov; telephone: 312-886-9593.

SUPPLEMENTARY INFORMATION:

Correction

In the Federal Register of July 31, 2024, in FR Doc. 2024-16837, on page 61426, in the second column, change “Monday, September 2, 2024” to “Tuesday, September 3, 2024.”

William Renner,
Director, Facilities Management and Services Programs Division, Great Lakes Region 5, U.S. General Services Administration.

[FR Doc. 2024-17269 Filed 8-5-24; 8:45 am]

BILLING CODE 6820-CF-P